ENVIRONMENTAL PROTECTION AGENCY

[FRL-7226-5]

Agency Information Collection Activities: Submission for OMB Review; Comment Request; Pesticide Registration Application, Notification and Report for Pesticide-Producing Establishments

AGENCY: Environmental Protection Agency (EPA).

ACTION: Notice.

SUMMARY: In compliance with the Paperwork Reduction Act (44 U.S.C. 3507(a)(1)(D), this document announces that the Information Collection Request (ICR) for the Application for Registration of Pesticide-Producing Establishments, and the Pesticides Report for Pesticide-Producing Establishments described below has been forwarded to the Office of Management and Budget (OMB) for review and comment. The ICR describes the nature of the information collection and its expected burden and cost; and it includes the forms. Also included is the Notification of Registration of Pesticide-Producing Establishments, which EPA uses to notify the company of their newly registered pesticide-producing establishments, and the assignment of their Establishment Number(s).

DATES: Comments must be submitted on or before July 10, 2002.

ADDRESSES: Send comments, referencing EPA ICR Number 0160.07 and OMB Control Number 2070-0078, to the following addresses: Susan Auby, U.S. Environmental Protection Agency, Collection Strategies Division (Mail Code 2822T), 1200 Pennsylvania Avenue, NW., Washington, DC 20460; and to the Office of Information and Regulatory Affairs, Office of Management and Budget (OMB), Attention: Desk Officer for EPA, 725 17th Street, NW., Washington, DC 20503.

FOR FURTHER INFORMATION OR A COPY: Contact Susan Auby at EPA by phone at (202) 566-1672, by email at auby.susan@epa.gov, or download off the Internet at http://www.epa.gov/icr and refer to EPA ICR No. 0160.07.

SUPPLEMENTARY INFORMATION: Title: Pesticide Registration Application, Notification and Report for Pesticide-Producing Establishments; (OMB Control No. 2070-0078; EPA ICR No. 0160.07).

Abstract: The U.S. Environmental Protection Agency (EPA) must collect information on pesticide-producing establishments in order to meet the statutory requirements of Section 7 of the Federal Insecticide, Fungicide, and Rodenticide Act (FIFRA). FIFRA requires producers of pesticide products, active ingredients, and devices to register their establishments with EPA and to submit an initial report, and thereafter, annually report on the types and amounts of products produced. The purpose of this notice is to request renewal of the collection process and reporting processes for the Application for Registration of Pesticide-Producing Establishments (EPA Form 3540-8), the Notification of Registration of Pesticide-Producing Establishments (EPA Form 3540-8A), and the Pesticides Report for Pesticide-Producing Establishments (EPA Form 3540-16).

Application for Registration of Pesticide-Producing Establishments information, collected on EPA Form 3540-8, is a one-time requirement for all pesticide-producing establishments. The reporting of pesticide production information collected on the Pesticides Report for Pesticide-Producing Establishments, EPA Form 3540-16, is required within 30 days of receipt of the Notification of Registration of Pesticide-Producing Establishments (EPA Form 3540-8A); and then annually thereafter, on or before March 1. The information is entered and stored in EPA's Office of Enforcement and Compliance Assurance (OECA)/Office of Compliance (OC) Section Seven Tracking System (SSTS), a computerized data processing and record-keeping system.

The Office of Compliance/OECA collects the establishment and pesticide production information for compliance oversight and risk assessment. The information is used by EPA Regional pesticide enforcement and compliance staffs, OECA, and the Office of Pesticide Programs (OPP) within the Office of Prevention, Pesticides and Toxic Substances (OPPTS), as well as the U.S. Department of Agriculture (USDA), the Food and Drug Administration (FDA), other Federal agencies, States under Cooperative Enforcement Agreements, and the public.

An agency may not conduct or sponsor, and a person is not required to respond to, a collection of information unless it displays a currently valid OMB control number. The OMB control numbers for EPA's regulations are listed in 40 CFR part 9 and 48 CFR chapter 15. The Federal Register Notice required under 5 CFR 1320.8(d), soliciting comments on this collection of information was published on 11/26/2001 (66 FR 59017), and no comments were received.

Burden Statement: The annual public reporting and record keeping burden for this collection of information is estimated to be an average of 18 minutes for a one time response for the Application for Registration of Pesticide-Producing Establishments (EPA Form 3540-8), and 1 hour and 26 minutes for the annual yearly response for the Pesticides Report for Pesticide-Producing Establishments (EPA Form 3540-16). There is no public burden associated with the Notification of Registration of Pesticide-Producing Establishments (EPA Form 3540-8A) because EPA completes this form. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The burden associated with this ICR is described below:

Respondents/Affected Entities: Pesticide producing establishments.

Estimated Number of Respondents: 12,412.

Frequency of Response: One time and yearly.

Estimated Total Annual Hour Burden: 17,959 hours.

Estimated Total Annualized Cost Burden: $0.

Send comments on the Agency's need for this information, the accuracy of the provided burden estimates, and any suggested methods for minimizing respondent burden, including through the use of automated collection techniques to the addresses listed above. Please refer to EPA ICR No. 0160.07 and OMB Control No. 2070-0078 in any correspondence.

Dated: May 29, 2002.
Oscar Morales,
Director, Collection Strategies Division.

[FR Doc. 02-14486 Filed 6-7-02; 8:45 am]

BILLING CODE 6560-50-U